DEPARTMENT OF LABOR

Employment and Training Administration

[TA-W-63,758]

Lear Corporation, Quality Control and Inspection Department, 950 Loma Verde Drive, El Paso, Texas; Notice of Affirmative Determination Regarding Application for Reconsideration

In an application post-marked September 4, 2008 a worker requested administrative reconsideration of the negative determination regarding workers' eligibility to apply for Trade Adjustment Assistance (TAA) and Alternative Trade Adjustment Assistance (ATAA) applicable to workers and former workers of Lear Corporation, Quality Control and Inspection Department, located at 950 Loma Verde Drive, El Paso, Texas (subject firm).

The negative determination was issued on August 21, 2008. The Department's Notice of determination was published in the Federal Register on September 3, 2008 (73 FR 51530). Workers performed testing and inspection of component parts (terminals, connectors, wires, and grommets) for wire harnesses. The determination stated that the subject firm does not produce an article within the meaning of Section 222(a)(2) of the Act. The determination further stated that because the subject workers are denied eligibility to apply for TAA, the workers cannot be certified eligible for ATAA.

The request for reconsideration stated that subject firm “held two very different departments * * * the Quality Control and Inspection Dept. * * * and the other one was the PPAP Dept. (Production Part Approval Process). The request further states that the appeal is limited to the “PPAP Dept.”

The request for reconsideration alleges that the PPAP “is an essential part of the production process, it is directly involved in the manufacturing of the final product in the production line” and that “Lear Corporation took our jobs to Mexico.”

The Department has carefully reviewed the worker's request for reconsideration and has determined that the Department will conduct further investigation.

Conclusion

After careful review of the application, I conclude that the claim is of sufficient weight to justify reconsideration of the U.S. Department of Labor's prior decision. The application is, therefore, granted.

Signed at Washington, DC, this 3rd day of October 2008.
Elliott S. Kushner,
Certifying Officer, Division of Trade Adjustment Assistance.

[FR Doc. E8-24122 Filed 10-9-08; 8:45 am]

BILLING CODE 4510-FN-P